FEDERAL COMMUNICATIONS COMMISSION

47 CFR Part 73

[DA 03-3916; MB Docket No. 02-166; RM-10478]

Radio Broadcasting Services; Salina, UT

AGENCY: Federal Communications Commission.

ACTION: Final rule.

SUMMARY: At the request of Sierra Grande Broadcasting this document allots Channel 233C to Salina, Utah. See 67 FR 47502, published July 19, 2002. The reference coordinates for the Channel 233C allotment at Salina, Utah, are 38-52-24 and 111-51-33. With this action, the proceeding is terminated.

DATES: Effective January 29, 2004.

FOR FURTHER INFORMATION CONTACT: Robert Hayne, Media Bureau (202) 418-2177.

SUPPLEMENTARY INFORMATION: This is a synopsis of the Commission's Report and Order in MB Docket No. 02-166, adopted December 12, 2003, and released December 16, 2003. The full text of this decision is available for inspection and copying during normal business hours in the FCC's Reference Information Center at Portals II, CY-A257, 445 12th Street, SW., Washington, DC. The complete text of this decision may also be purchased from the Commission's copy contractor, Qualex International, Portals 11, 445 12th Street, SW., Room CY-B402, Washington, DC 20554, telephone (202) 863-2893, facsimile (202) 863-2898, or via e-mail qualexint@aol.com.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Utah, is amended by adding Salina, Channel 279A.

Federal Communications Commission.
John A. Karousos,
Assistant Chief, Audio Division, Media Bureau.

[FR Doc. 04-112 Filed 1-5-04; 8:45 am]

BILLING CODE 6712-01-P